DEPARTMENT OF AGRICULTURE

Office of Partnerships and Public Engagement (OPPE); Advisory Committee on Beginning Farmers and Ranchers—Solicitation for Nominations

AGENCY: USDA.

ACTION: Solicitation for applications.

SUMMARY: Pursuant to the Federal Advisory Committee Act, notice is hereby given that U.S. Department of Agriculture (USDA) is soliciting nominations and applications to serve on the Advisory Committee on Beginning Farmers and Ranchers (the “Committee”). Applications and nomination packages can be downloaded at the link below: https://www.ocio.usda.gov/document/ad-755.

DATES: Consideration will be given to nominations received on or before November 1, 2018.

FOR FURTHER INFORMATION CONTACT: Mrs. Kenya Nicholas, Designated Federal Official, USDA-OPPE, 1400 Independence Avenue SW, Room 520-A, Washington, DC 20250-0601; Telephone (202) 720-6350; Fax (202) 720-7704; Email: kenya.nicholas@osec.usda.gov.

ADDRESSES: Nomination packages may be sent by postal mail or commercial delivery to: Mrs. Kenya Nicholas, Designated Federal Official, USDA OPPE, 1400 Independence Avenue SW, Room 520-A, Washington, DC 20250-0601 or faxed to (202) 720-7704.

SUPPLEMENTARY INFORMATION: On May 31, 2017, we published in the Federal Register (FR DOC# 2017-11214, Pages 24934-24935) a Notice of Solicitation for Nominations. Applications were required to be received on or before June 15, 2017. Previous applicants do not need to reapply.

We are soliciting nominations from interested organizations and individuals from among ranching and farming producers (industry), related government, State, and Tribal agricultural agencies, academic institutions, commercial banking entities, trade associations, and related nonprofit enterprises. The Committee will meet and discuss beginning farmer and rancher policy and program issues and collaborate to make recommendations to the Secretary on matters broadly affecting new farmers and ranchers. The membership term shall not exceed 2 years from the date of appointment. The Secretary may also appoint others as deemed necessary and appropriate to fulfill the Committee charter. An organization may nominate individuals from within or outside its membership; alternatively, an individual may nominate herself or himself. Nomination packages should include a nomination form along with a cover letter or resume that documents the nominee's background and experience.

The Secretary will fill 20 vacancies from among those organizations and individuals solicited, in order to obtain the broadest possible representation on the Committee. Equal opportunity practices, in line with the USDA policies, will be followed in all appointments to the Committee. To ensure that the recommendations of the Committee have taken into account the needs of the diverse groups served by the Department, membership should include, to the extent practicable, individuals with demonstrated ability to represent minorities, women, and persons with disabilities.

Signed in Washington, DC, this 13th day of September, 2018.
Christian Obineme,
Deputy Director, Office of Partnerships and Public Engagement.

[FR Doc. 2018-22146 Filed 10-16-18; 8:45 am]

BILLING CODE P